ENVIRONMENTAL PROTECTION AGENCY

[ER-FRL-6622-2]

Environmental Impact Statements; Notice of Availability

Responsible Agency: Office of Federal Activities, General Information, (202) 564-7167 or www.epa.gov/oeca/ofa.

Weekly receipt of Environmental Impact Statements

Filed September 17, 2001 Through September 21, 2001

Pursuant to 40 CFR 1506.9.

EIS No. 010353, Final EIS, BOP, FL, GA, MS, AL, Criminal Alien Requirement (CAR) II, To Contract for a Private Contractor-Owned/Contractor-Operated Correctional Facility in Florida, Mississippi, Georgia and Alabama to House Adult-Male and Non-US Citizen, AL, FL, GA and/or MS , Due: October 29, 2001, Contact: David J. Dorworth (202) 514-6470.

EIS No. 010354, Final EIS, FHW, VA, Coalfields Expressway Location Study, Improvements from Route 23 near Pound, VA to the WV State Line east of Slate, VA, Funding and COE Section 404 Permit, Wise, Dickerson and Buchanan, VA, Due: October 29, 2001, Contact: Roberto Fonseca-Martinez (804) 775-3320.

EIS No. 010355, Final EIS, IBR, WA, Keechelus Dam Project, Safety of Dams Modification, Implementation, COE Section 404 Permit, Yakima, Kittitas, Benton, and Klickitat Counties, WA, Due: October 29, 2001, Contact: Dave Kaumheimer (509) 575-5848.

EIS No. 010356, Final Supplement, UMC, AZ, CA, Yuma Training Range Complex Management, Operation and Development, Marine Corps Air Station Yuma, Goldwater Range, Yuma and La Paz Cos., AZ and Chocolate Mountain Range, Imperial and Riverside Counties, CA, Due: October 29, 2001, Contact: Deb Theroux (619) 532-1162.

EIS No. 010357, Draft EIS, SFW, Light Goose Management Plan, Implementation of Reducing and Stabilizing Specific Populations “Light Geese” in North America, Due: November 28, 2001, Contact: Jon Andrew (703) 358-1714.

EIS No. 010358, DRAFT EIS, AFS, MT, Threemile Stewardship Project, A Proposed Short-term and Long-Term Vegetation and Road Management Activities, Ashland Ranger District, Custer National Forest, Powder and Rosebud Counties, MT, Due: November 13, 2001, Contact: Elizabeth McFarland (406) 784-2344. This document is available on the Internet at: http://www.fs.fed.us/r1/custer/.

EIS No. 010359, Final EIS, GSA, MD, Suitland Federal Center, Construction and Operation of a 226-acre Federal Employment Center, Programmatic Development Plan and Phase I Implementation, Prince George's County, MD, Due: October 29, 2001, Contact: Jag Bhargava (202) 708-6944.

EIS No. 010360, Draft EIS, FHW, IN, Indianapolis Northeast Corridor Transportation Connections Study, To Identify Actions to Reduce Expected Year 2025 Traffic Congestion and Enhance Mobility, Between I-69: from I-465 to IN-328; I-465: from US 31 to I-70; I-70: from I-65 to I-465: IN-37 from I-69 to Allisonville Road (Noblesville), Marion and Hamilton Counties, IN, Due: November 28, 2001, Contact: Larry Heil (327) 226-7491.

EIS No. 010361, Draft EIS, FAA, IL, South Suburban Airport, Proposed Site Approval and Land Acquisition, For Future Air Carrier Airport, Will and Kankakee Counties, IL, Due: November 13, 2001, Contact: Denis R. Rewerts (847) 294-7195.

Amended Notices

EIS No. 010302, Draft EIS, DOE, NM, ID, NV, Technical Area 18 (TA-18) Relocation of Capabilities and Materials at the Los Almos National Laboratory (LANL), Operational Activities Involve Research in and the Design, Development, Construction, and Application of Experiments on Nuclear Criticality, NM, NV and ID, Due: October 26, 2001, Contact: James J. Rose (866) 357-4345. Revision of FR Notice Published on 08/17/2001: CEQ Review Period Ending on 10/05/2001 has been Extended to 10/26/2001.

EIS No. 010303, Draft EIS, AFS, WA, Crystal Mountain Master Development Plan, To Provide Winter and Summer Recreational Use, Special-Use-Permit, Mt. Baker-Snoqualmie National Forest, Silver Creek Watershed, Pierce County, WA, Due: October 31, 2001, Contact: Larry Donovan (425) 744-3403. Revision of FR Notice Published on 08/17/2001: CEQ Review Period Ending 10/16/2001 has been extended to 10/31/2001.

EIS No. 010315, Draft EIS, FHW, WA, I-405 Corridor Transportation Improvements, I-5 in the City of Tukwila to I-5 in Snohomish County, Funding and Possible COE Section 404 Permits Issuance, King and Snohomish Counties, CA, Due: October 24, 2001, Contact: James Leonard (FHWA) (360) 753-9408. Revision of FR Notice Published on 08/24/2001: CEQ Comment Period Ending 10/09/2001 has been extended to 10/24/2001.

EIS No. 010334, Draft EIS, IBR, CA, American River Pump Station Project, Providing Placer County Water Agency (PCWA) with the Year-Round Access to its Middle Fork Project (MFP) Water Entitlements from the American River, Placer County, CA, Due: November 13, 2001, Contact: Rod Hall (916) 989-7279. Revision of FR Notice Published on 09/07/2001: CEQ Review Period Ending 10/22/2001 has been extended to 11/13/2001.

EIS No. 010350, Draft EIS, NOA, Dolphin and Wahoo Fishery Management Plan, Establishing Fishery Management Units, Stock Status Determination and Harvesting Restrictions, Initial Regulatory Flexibility Analysis, South Atlantic, Caribbean, and Gulf of Mexico, Due: November 05, 2001, Contact: Joseph E. Powers (727) 570-5301. Published FR 09-21-01—the Correct Website Address should read as http://www.nmfs.noaa.gov/prot_res/overview/publicat.html

EIS No. 010351, Draft EIS, FHW, IL, Lake County Transportation Improvement Project, To Identify a System of Strategic Roadway, Rail, and Bus Improvements, Transportation Management Strategies, Lake County, IL, Due: November 05, 2001, Contact: Norman R. Stoner (217) 492-4640. Published FR-09-21-01—Correction to State from IN to IL.

Dated: September 28, 2001.
Joseph C. Montgomery,
Director, NEPA Compliance Division, Office of Federal Activities.

[FR Doc. 01-24383 Filed 9-27-01; 8:45 am]

BILLING CODE 6560-50-P